DEPARTMENT OF TRANSPORTATION

Federal Highway Administration

[Docket No. FHWA-2008-0118]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under Supplementary Information. We published a Federal Register Notice with a 60-day public comment period on this information collection on July 19, 2007. We are required to publish this notice in the Federal Register by the Paperwork Reduction Act of 1995.

DATES: Please submit comments by September 22, 2008.

ADDRESSES: You may submit comments identified by DOT DMS Docket Number FHWA-2007-28755 by any of the following methods:

Web Site: http://dms.dot.gov. Follow the instructions for submitting comments on the DOT electronic docket site.

Fax: 1-202-493-2251.

Mail: Docket Management Facility, U.S. Department of Transportation, 1200 New Jersey Avenue, SE., Washington, DC 20590.

Hand Delivery: U.S. Department of Transportation, 1200 New Jersey Avenue, SE., Washington, DC 20590, between 9 a.m. and 5 p.m., Monday through Friday, except Federal holidays.

Docket: For access to the docket to read background documents or comments received, go to http://dms.dot.gov at any time or to U.S. Department of Transportation, 1200 New Jersey Avenue, SE., Washington, DC 20590, between 9 a.m. and 5 p.m., Monday through Friday, except Federal holidays.

FOR FURTHER INFORMATION CONTACT: Serena Matthews-Parrish, 202-366-1201, Office of Human Resources, Student Outreach and Career Entry Programs Group, Federal Highway Administration, Department of Transportation, 1200 New Jersey Avenue, SE., Washington, DC 20590. Office hours are from 7:30 a.m. to 4 p.m., Monday through Friday, except Federal holidays.

SUPPLEMENTARY INFORMATION: Title: Summer Transportation Internship Program for Diverse Groups (STIPDG).

Background: STIPDG is authorized by The Safe, Accountable, Flexible, Efficient Transportation Equity Act: A Legacy for Users (SAFETEA-LU), Section 5204-Training and Education/Surface Transportation Workforce Development, Training, and Education Act. Section 5204 states that subject to project approval by the Secretary, a State may obligate funds apportioned to the State for primary core programs workforce development, training, and education, including student internships; university or community college support; and outreach to develop interest and promote participation in surface transportation careers. STIPDG is an important part of DOT's intermodal effort to promote the entry of women, persons with disabilities, and members of diverse groups into transportation careers where traditionally these groups have been under-represented. Accordingly, FHWA's Office of Civil Rights will continue to actively support the STIPDG by working closely with FHWA's Office of Human Resources, Student Outreach and Career Entry Programs Group, which has responsibility for administering the program. The program includes participation and placement of college students into summer intern placement nationwide, for all the DOT operating administrations. FHWA implements the program via a contractor that is selected through open competition. The STIPDG accepts approximately 500 applications each year, placing as few as 70 and as many as 100 undergraduate, graduate, and law students in transportation-related, non-administrative, technical, hands-on assignments with a Federal and State mentor providing on-the-job training. The STIPDG provides college students with an opportunity to work on current transportation-related topics and issues identified in or directly pertaining to the current DOT Strategic Plan. The STIPDG is open to all qualified applicants regardless of race, color, religion, sex, national origin, political affiliation, sexual orientation, marital status, disability, age, membership in an employee organization, or other non-merit factor. The STIPDG is open to all applicants based on the following eligibility requirements. Applicants must be currently enrolled in degree-granting programs of study at accredited U.S. institutions of higher education recognized by the U.S. Department of Education. Undergraduate applicants must be juniors or seniors for the fall of 2008. Undergraduate applicants from Junior, Tribal, or Community Colleges must have completed their first year. Law applicants must be entering their second or third year of law school in the fall of 2009. Applicants who are scheduled to graduate during the coming spring or summer semesters are not eligible for consideration for the STIPDG unless: (1) They have been accepted for graduate school enrollment; (2) they have been accepted for enrollment at an institution of higher education; or (3) their acceptance is pending. In all instances, the applicant must submit their completed application packages and documentation (with the school's logo) reflecting their status. Former STIPDG interns may apply but will not receive preferential consideration. Applicants will be evaluated based on the completeness of the application and the required documents listed below. Priority will be given to those with GPA's of 3.0 or better (for the Major and/or cumulatively). Applicants must be available and able to participate in the entire 10-week program.

Respondents: Approximately 500 applicants.

Frequency: Student applies every fall by going to the STIPDG Web site at: http://www.fhwa.dot.gov/education/Stipdg.htm, reading the requirements, retrieving the necessary 1-page forms, completing them, and packaging and forwarding all required documents to the designated PO Box identified on the Web site. Applications are received during the fall, with student offer letters sent by the spring, and placement offered by the first week of June for the majority of participants. The summer internship is managed by a contractor who responds to each applicant within 24 hours of receipt of the application, confirms via e-mail notification to the applicant whether or not the application package is received and deemed completed; and within 90 days notifies the applicant regarding the status of acceptance into the program. The required STIPDG Application documents include:

• The actual 1-page STIPDG Application.

• A copy of the most recent Transcript/Grade Record/Report.

• At least one reference (if possible with comments) from a department chair, professor, advisor, employer using the attached 1-page Reference Form.

• A current 1-page resume reflecting work experience, volunteerism, awards, leadership, and extra curricular activities.

• The actual 1-page, 2009 Applicant's Area of Interest/Geographical Preference Sheet, also included on this site.

• For Undergraduate Students: A typed essay, 1-page, double-spaced, minimum 12-point type, on your transportation interests, describing how participation in the 2009 STIPDG will enhance educational and career plans and goals.

• For Graduate Students: A writing sample representing your educational and career plans and goals.

• For Law Students: A legal writing sample.

Estimated Average Burden per Response: The estimated average burden is 4 hours per respondent.

Estimated Total Annual Burden Hours: The estimated total annual burden is 2,000 hours per year.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: August 14, 2008.
James R. Kabel,
Chief, Management Programs and Analysis Division.

[FR Doc. E8-19326 Filed 8-21-08; 8:45 am]

BILLING CODE 4910-22-P